POSTAL REGULATORY COMMISSION

[Docket No. CP2013-1; Order No. 2459]

New Postal Product

AGENCY: Postal Regulatory Commission.

ACTION: Notice.

SUMMARY: The Commission is noticing a recent Postal Service filing concerning an amendment to Priority Mail Express & Priority Mail Contract 11. This notice informs the public of the filing, invites public comment, and takes other administrative steps.

DATES: Comments are due: April 30, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On April 22, 2015, the Postal Service filed notice that it has agreed to an Amendment to the existing Priority Mail Express & Priority Mail Contract 11 negotiated service agreement approved in this docket.¹ In support of its Notice, the Postal Service includes a redacted copy of the Amendment and states that the supporting financial documentation and financial certification initially provided in this docket (required for compliance with 39 U.S.C. 3633(a), as required by 39 CFR 3015.5) remain applicable. Notice at 1.

¹ Notice of United States Postal Service of Amendment to Priority Mail Express & Priority Mail Contract 11, with Portions Filed Under Seal, April 22, 2015 (Notice).

The Postal Service also filed the unredacted Amendment. The Postal Service incorporates by reference the Application for Non-Public Treatment originally filed in this docket for the protection of information that it has filed under seal. Id.

The Amendment changes the terms of Priority Mail Express & Priority Mail Contract 11 as contemplated by the contract's terms.

The Postal Service intends for the Amendment to become effective one business day after the date that the Commission completes its review of the Notice. Id.

II. Notice of Filings

The Commission invites comments on whether the changes presented in the Postal Service's Notice are consistent with the policies of 39 U.S.C. 3632, 3633, or 3642, 39 CFR 3015.5, and 39 CFR part 3020, subpart B. Comments are due no later than April 30, 2015. The public portions of these filings can be accessed via the Commission's Web site (http://www.prc.gov).

The Commission appoints Cassie D'Souza to represent the interests of the general public (Public Representative) in this docket.

III. Ordering Paragraphs

It is ordered:

1. The Commission reopens Docket No. CP2013-1 for consideration of matters raised by the Postal Service's Notice.

2. Pursuant to 39 U.S.C. 505, the Commission appoints Cassie D'Souza to serve as an officer of the Commission (Public Representative) to represent the interests of the general public in this proceeding.

3. Comments are due no later than April 30, 2015.

4. The Secretary shall arrange for publication of this order in the Federal Register.

By the Commission.
Ruth Ann Abrams,
Acting Secretary.

[FR Doc. 2015-09945 Filed 4-28-15; 8:45 am]

BILLING CODE 7710-FW-P